DEPARTMENT OF HEALTH AND HUMAN SERVICES

Centers for Medicare & Medicaid Services

[CMS-5542-N]

Medicare Program; Alternative Payment Model (APM) Incentive Payment Advisory for Clinicians—Request for Current Billing Information for Qualifying APM Participants

AGENCY: Centers for Medicare & Medicaid Services (CMS), Department of Health and Human Services (HHS).

ACTION: Notice.

SUMMARY: This advisory is to alert certain clinicians who are qualifying Alternative Payment Model (APM) participants (QPs) and have earned an APM incentive payment that CMS does not have the current information needed to disburse the payment. This advisory provides information to QPs on how to update their Medicare billing information so that CMS can disburse APM incentive payments.

DATES: August 29, 2025.

FOR FURTHER INFORMATION CONTACT: Tanya Dorm, (410) 786-2216.

SUPPLEMENTARY INFORMATION:

I. Background

Under the Medicare Quality Payment Program, an eligible clinician who participates in an Advanced Alternative Payment Model (APM) and meets or exceeds the applicable payment amount or patient count thresholds for a performance period is a qualifying APM participant (QP) for that year. For payment years 2019 through 2026, which respectively correspond to the QP performance periods for 2017 through 2024, an eligible clinician who attains QP status for a year earns a lump sum APM incentive payment that is paid in the payment year. For payment years 2019 through 2024, the amount of the APM incentive payment is equal to 5 percent of the estimated aggregate paid amounts for covered professional services furnished by the QP during the calendar year immediately preceding the payment year. For the 2023 performance year and 2025 payment year Congress, via section 4111 of the Consolidated Appropriations Act, 2023 (Pub. L. 117-328), reduced the APM incentive payment from 5 percent to 3.5 percent. For the 2024 performance year and 2026 payment year the APM incentive payment is reduced from 3.5 percent to 1.88 percent.

II. Provisions of the Advisory

The Centers for Medicare & Medicaid Services (CMS) has identified those eligible clinicians who attained QP status in the 2023 performance period and earned a 3.5 percent APM incentive payment for the 2025 payment year based on aggregate paid amounts for the covered professional services they furnished in the calendar year (CY) 2024 base period.

When the 2025 APM incentive payments were processed, CMS was unable to identify the taxpayer identification number (TIN) or TINs associated with some QPs and therefore was unable to disburse the payments. To successfully issue the APM incentive payment for the 2025 payment year, CMS is requesting assistance identifying current Medicare billing information for these under 42 CFR 414.1450(c)(8), if we have not identified any TIN associated with the QP to which we can make the APM Incentive Payment, we will attempt to contact the QP via a public notice to request their Medicare payment information.

CMS has compiled a list of QPs for whom we were unable to identify any associated TIN to which we can make the APM incentive payment. These QPs, and any others who anticipated receiving an APM Incentive Payment but have not, should follow the instructions to provide CMS with updated Medicare billing information at the following web address: https://qpp-cm-prodcontent.s3.amazonaws.com/uploads/3369/2025%20QP%20Notice%20for%20APM%20Incentive%20Payment.zip.

If you have any questions concerning submission of information through the QPP website, please contact the Quality Payment Program Help Desk at 1-866-288-8292.

In accordance with 42 CFR 414.1450(c)(8), all information must be received by September 1, 2025. After that date, any claim to an APM incentive payment for the 2025 payment period based on an eligible clinician's QP status for the 2023 QP performance period will be forfeited. To facilitate payment, please include all required documentation as specified in the previous link. If CMS is still unable to process the APM incentive payment based on the Medicare billing information received in response to this advisory, the submitter will not be notified.

CMS will hold all timely submitted information and process the remaining 2025 APM incentive payments simultaneously as soon as possible after the deadline. It may take up to 3 months to complete the validation and verification process before these APM incentive payments are disbursed.

III. Collection of Information Requirements

This advisory is intended to alert certain QPs that CMS is requesting assistance identifying current Medicare billing information so that we can disburse APM incentive payments. This request for follow-up information is exempt from the requirements of the Paperwork Reduction Act of 1995 (44 U.S.C. 3501 et seq.) as specified under implementing regulation 5 CFR 1320.3(h)(9) with regard to the clarification of responses.

The Administrator of the Centers for Medicare & Medicaid Services (CMS), Mehmet Oz, having reviewed and approved this document, authorizes Chyana Woodyard, who is the Federal Register Liaison, to electronically sign this document for purposes of publication in the Federal Register.

Chyana Woodyard,
Federal Register Liaison, Centers for Medicare & Medicaid Services.

[FR Doc. 2025-14434 Filed 7-29-25; 8:45 am]

BILLING CODE 4120-01-P